DEPARTMENT OF LABOR

Employment and Training Administration

[TA-W-53,797]

WestPoint Stevens, Inc., Lanier Mill, Valley, AL; Notice of Termination of Investigation

Pursuant to section 221 of the Trade Act of 1974, an investigation was initiated on December 15, 2003, in response to a petition filed by a company official on behalf of workers at WestPoint Stevens, Lanier Mill, Valley, Alabama.

The petitioner has requested that the petition be withdrawn. Consequently, further investigation in this case would serve no purpose, and the investigation has been terminated.

Signed in Washington, DC, this 29th day of December, 2003.
Linda G. Poole,
Certifying Officer, Division of Trade Adjustment Assistance.

[FR Doc. 04-656 Filed 1-12-04; 8:45 am]

BILLING CODE 4510-30-P